OFFICE OF SCIENCE AND TECHNOLOGY POLICY

President's Council of Advisors on Science and Technology; Notice of Meeting: Meeting of the President's Council of Advisors on Science and Technology

ACTION: Public notice.

SUMMARY: This notice sets forth the schedule and summary agenda for a meeting of the President's Council of Advisors on Science and Technology (PCAST), and describes the functions of the Council. Notice of this meeting is required under the Federal Advisory Committee Act (FACA).

DATES: October 22, 2009-October 23, 2009.

ADDRESSES: Washington, DC. The meeting will be held at the National Academy of Sciences building, 2100 C Street, NW., Washington, DC.

Type of Meeting: Open and Closed. Details on the meeting agenda will be posted on the PCAST Web site at: http://www.ostp.gov/cs/pcast.

Proposed Schedule and Agenda: The President's Council of Advisors on Science and Technology (PCAST) is scheduled to meet in open session on October 22, 2009 from 10 a.m.-12 p.m., when they will break for lunch. They will resume meeting in open session from 2 p.m.-6 p.m. On October 23, 2009, PCAST will meet in open session from 10 a.m.-12 p.m., when they will break for lunch. They will resume meeting in open session from 2 p.m.-5 p.m. During these open meetings, PCAST is tentatively scheduled to hear presentations from representatives of the Office of Science and Technology Policy, the Department of Energy, the Department of State, the Department of Education, the Department of Defense, the National Science Foundation, the National Aeronautics and Space Administration, National Institutes of Health, and non-governmental leaders in science, technology, engineering, and mathematics (STEM) education.

Speakers will focus on the issues of STEM education or the role of science and technology in international development activities. In addition, PCAST will discuss possible studies it may conduct regarding the health and the life sciences; energy, climate, and the environment; innovation and technology; international security; economic development; and interdisciplinary aspects of science and technology. Additional information and the agenda will be posted at the PCAST Web site at: http://www.ostp.gov/cs/pcast.

PCAST may hold a closed meeting of approximately 1 hour with the President, which must take place in the White House for the President's scheduling convenience and to maintain Secret Service protection. This meeting will be closed to the public because such portion of the meeting is likely to disclose matters that are to be kept secret in the interest of national defense or foreign policy under 5 U.S.C. 552b(c)(1). The precise date and time of this potential meeting has not yet been determined.

Public Comments: There will be time allocated for the public to comment on the above agenda items the morning of October 23, 2009. This public comment period is designed for substantive commentary on PCAST's work topics, not for business marketing purposes.

Members of the public wishing to reserve speaking time must contact Dr. Deborah D. Stine, PCAST Executive Director, at dstine@ostp.eop.gov, (202) 456-6006, or fax your request/comments to (202) 456-6021, at least five (5) business days in advance of the meeting. To accommodate as many speakers as possible, the time for public comments will be limited to two (2) to five (5) minutes per person, with a total public comment period of 30 minutes. Requests for public comment will be honored on a first-come, first-serve basis. The time available to speakers will be determined based on the number of requests received by the deadline. Speakers are asked to bring extra copies of their comments and/or presentation for distribution to PCAST at the meeting.

Written comments are also welcome at any time before or following the meeting. Written comments received at least five (5) business days prior to the meeting will be made available to the members before their meeting. Written comments received after that point may not be reviewed by the members until after the meeting takes place.

Please note that because PCAST operates under FACA, all public comments and/or presentations will be treated as public documents and will be made available for public inspection, including being posted on the PCAST Web site.

FOR FURTHER INFORMATION, CONTACT: Information regarding agenda, time, location, and how to register for the meeting will be made available on the PCAST Web site at: http://www.ostp.gov/cs/pcast. A live video Web cast and an archive of the Web cast after the event will be available at http://www.ostp.gov/cs/pcast. Questions about the meeting should be directed to Dr. Deborah D. Stine, PCAST Executive Director, at dstine@ostp.eop.gov, (202) 456-6006, or fax your request/comments to (202) 456-6021 prior to 3 p.m. on Wednesday, August 5, 2009. Please note that public seating for this meeting is limited and is available on a first-come, first-served basis.

SUPPLEMENTARY INFORMATION: The President's Council of Advisors on Science and Technology was established by Executive Order 13226 on September 30, 2001. The President's Council of Advisors on Science and Technology (PCAST) is an advisory group of the nation's leading scientists and engineers who directly advise the President and the Executive Office of the President. PCAST makes policy recommendations in the many areas where understanding of science, technology, and innovation is key to strengthening our economy and forming policy that works for the American people. PCAST is administered by the Office of Science and Technology Policy (OSTP). PCAST is co-chaired by Dr. John Holdren, Assistant to the President for Science and Technology, and Director of the Office of Science and Technology Policy; Dr. Harold Varmus, President, Memorial Sloan-Kettering Cancer Center; and Dr. Eric Lander, Founding Director, Broad Institute.

Meeting Accommodations: Individuals requiring special accommodation to access the public meetings listed above should contact Dr. Stine at least five business days prior to the meeting so that appropriate arrangements can be made.

Deborah D. Stine,
Executive Director, President's Council of Advisors on Science and Technology Policy.

[FR Doc. E9-23253 Filed 9-24-09; 8:45 am]

BILLING CODE 3170-W9-P